DEPARTMENT OF JUSTICE

[Docket No. OTJ 100]

Solicitation of Comments on Request for United States Assumption of Concurrent Federal Criminal Jurisdiction; Hoopa Valley Tribe

Correction

In notice document 2012-09731 beginning on page 24517 the issue of Tuesday, April 24, 2012 make the following correction:

On page 24517, in the second column, in the DATES section, the first sentence should read, “Written comments must be postmarked and electronic comments must be submitted on or before June 8, 2012.”

[FR Doc. C1-2012-9731 Filed 5-7-12; 8:45 am]

BILLING CODE 1505-01-D